COMMODITY FUTURES TRADING COMMISSION

Sunshine Act Meeting

AGENCY HOLDING THE MEETING: Commodity Futures Trading Commission.

TIME AND DATE: 10:00 a.m.-4:00 p.m., Wednesday, June 28, 2000.

PLACE: 1155 21st St., NW., Washington, DC, Lobby Level Hearing Room.

STATUS: Open.

MATTERS TO BE CONSIDERED: Public Hearing on Regulatory Framework/Intermediaries and Clearing.

CONTACT PERSON FOR MORE INFORMATION: Jean A. Webb, 202-418-5100.

Jean A. Webb,
Secretary of the Commission.

[FR Doc. 00-14034 Filed 5-31-00; 3:47 pm]

BILLING CODE 6351-01-M